ENVIRONMENTAL PROTECTION AGENCY

40 CFR Part 52

[VA085/086/089/102/103-5046a; FRL-7455-7]

Approval and Promulgation of Air Quality Implementation Plans; Virginia; Reorganization of and Revisions to Administrative and General Conformity Provisions; Documents Incorporated by Reference; Recodification of Existing SIP Provisions; Correction

AGENCY: Environmental Protection Agency (EPA).

ACTION: Direct final rule; correcting amendment.

SUMMARY: This document corrects errors in the amendatory instructions of a final rule pertaining to the chart listing Virginia regulations which EPA has incorporated by reference into the Virginia SIP.

EFFECTIVE DATE: March 10, 2003.

FOR FURTHER INFORMATION CONTACT: Harold A. Frankford, (215) 814-2108 or by e-mail at frankford.harold@epamail.epa.gov.

SUPPLEMENTARY INFORMATION: Throughout this document wherever “we,” or “our” are used we mean EPA. On January 7, 2003 (68 FR 663), we published a final rulemaking action announcing corrections to the chart in 40 CFR 52.2020(c) summarizing the approved SIP rules. As stated 68 FR 663 at page 666, the intent of these amendatory instructions was to correct typographical errors by renumbering these entries with the correct regulatory citations. After reviewing the chart published on page 666, we have determined that this action provided an incomplete list of entries which EPA had intended to correct. In addition to those entries listed in 68 FR 663 at 666, EPA had intended to correct the following entries originally published on April 21, 2000 (65 FR 21315), as described below:

Federal Register page (65 FR) | Entry | Column title | Description of correction
21322 | 5-20-305 | State Effective Date | Replace “2/1/97” with “7/1/97”
21323 | 5-40-311 | Title/Subject | Replace “Dioxide” with “Oxides”
21342 | 5-91-20 | State Effective Date | Replace “1/1/98” with “1/24/97”
| 5-91-20 | Explanation [Former SIP Citation] | Revise the existing note regarding the term “Northern Virginia program area”

In this document on page 667, an amendatory instruction (2.d.) inadvertently removed entries 5-9-150, 4-91-450 and 4-91-460 from this chart. Another amendatory instruction (2.f.) contained a typographical error to the citation identifying entry 4-40-450. As stated in 68 FR 663 at page 666, the intent of these amendatory instructions was not to remove these entries from the chart, but merely to correct typographical errors by renumbering these entries with the correct regulatory citations, as described below:

1. Replace entry “4-40-450” with “5-40-450.”

2. Replace entry “5-9-150” with “5-91-150.”

3. Replace entry “4-91-450” with “5-91-450.”

4. Replace entry “4-91-460” with “5-91-460.”

However, the rule chart published in the January 7, 2003 action omitted these new entries which were meant to replace these incorrect entries. This action corrects the chart in 40 CFR 52.2420(c) by removing the incorrect chart entries and adding the correct chart entries in their place.

Also, on page 667 amendatory instructions 2.e. and 2.g. were incorrect. As a result, the corrections as described on page 666 to entry 5-80-10 and the title for “Chapter 160 General Conformity Rules” were not made to the rule chart at page 668. This action provides the correct amendatory instructions.

Finally, this action corrects typographical errors published in the rule chart for 68 FR 663 at page 668 to the headings “Chapter 10” and “Chapter 20” and to the notes found in the respective “Explanation [Former SIP Citation]” columns for entries 5-10-10 and 5-10-20.

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Statutory and Executive Order Reviews

Under Executive Order (E.O.) 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of March 10, 2003. EPA will submit a report containing this rule and other required information to the U.S. Senate, the U.S. House of Representatives, and the Comptroller General of the United States prior to publication of the rule in the Federal Register. This correction to 40 CFR 52.2420(c) for Virginia is not a “major rule” as defined by 5 U.S.C. 804(2).

List of Subjects in 40 CFR Part 52

Environmental protection, Air pollution control, Intergovernmental relations, Nitrogen dioxide, Ozone, Volatile organic compounds.

Dated: February 14, 2003.
Donald S. Welsh,
Regional Administrator, EPA Region III.

40 CFR part 52 is amended as follows:

PART 52—[AMENDED]

1. The authority citation for part 52 continues to read as follows:

Authority: 42 U.S.C. 7401 et seq.

Subpart VV—Virginia

2. In § 52.2420, the table in paragraph (c) is amended:

a. Under Chapter 10 by revising the “Chapter 10” heading and entries 5-10-10 and 5-10-20.

b. Under Chapter 20 by revising the “Chapter 20” heading and entry 5-20-205.

c. Under Chapter 40 by removing entry 4-40-450, adding entry 5-40-450, and revising entry 5-40-311.

d. Under Chapter 80 by removing entry 5-80-10/Article 6 and adding entry 5-80-10.

e. Under Chapter 91 by removing entries 5-9-150, 4-91-450, and 4-91-460; adding entries 5-91-150, 5-91-450, and 5-91-460; and revising entry 5-91-20.

f. Under chapter 160 by revising the “Chapter 160” heading.

The revisions read as follows:

§ 52.2420 Identification of plan.

* * * * *

(c) * * *

EPA-Approved Virginia Regulations
State citation (9 VAC 5) | Title/Subject | State effective date | EPA approval date | Explanation [former SIP citation]
Chapter 10—General Definitions—[Part I]
5-10-10 | General | 1/1/98 | 1/7/03, 68 FR | 120-01-01 Sections 5-10-10A, B and C are revised.
5-10-20 | Terms Defined— | 1/1/98 | 2/26/03 and FR page citation | Terms Added—Public hearing; Regulations for the Control and Abatement of Air Pollution, Regulation of the Board, These regulations: Terms Revised—Good Engineering Practice, Person, Volatile organic compound: Terms Deleted (moved to 9 VAC 5-170-20)—Administrative Process Act, Air quality maintenance area, Confidential information, Consent agreement, Consent order, Emergency special order, Order, Special order, Variance.
* * * * * * *
Chapter 20—General Provisions—[Part II]
* * * * * * *
5-20-205 | Prevention of Significant Deterioration Areas | 7/1/97 | 3/23/98, 63 FR 13795 | Former Appendix L—Effective 2/1/92.
* * * * * * *
Chapter 40—Existing Stationary Sources—[Part IV]
* * * * * * *
Part II—Emission Standards
* * * * * * *
Article 4—General Process Operations—[Rule 4-4]
* * * * * * *
5-40-311 | Reasonably available control technology guidelines for stationary sources of nitrogen oxides | 7/1/97 | 4/28/99, 64 FR 22792 | 52.2420(c)(132) Exceptions: 311C.3.a, C.3.c,D.
* * * * * * *
Article 5—Synthesized Pharmaceutical Products Manufacturing Operations—[Rule 4-5]
* * * * * * *
5-40-450 | Standard for Volatile Organic Compounds | 4/17/95 | 4/21/00, 65 FR 21320 | 120-04-0503
* * * * * * *
Chapter 80—Permits for Stationary Sources
5-80-10 | New and Modified Stationary Sources | 4/17/95 | 4/21/00, 65 FR 21320 | 120-08-01
* * * * * * *
Chapter 91—Regulations for the Control of Motor Vehicle Emissions in the Northern Virginia Area
Part I—Definitions
* * * * * * *
5-91-20 | Terms Defined | 1/24/97 | 9/1/99, 64 FR 47670 | Note: The term “Northern Virginia program area” is revised, effective 1/1/98, to exclude Fauquier County.
Part II—General Provisions
* * * * * * *
5-91-150 | Availability of Information | 1/24/97 | 9/1/99, 64 FR 47670 |
* * * * * * *
Part VI—Inspection Procedures
* * * * * * *
5-91-450 | Fuel test evaporative pressure test and gas cap pressure and test procedure | 1/24/97 | 9/1/99, 64 FR 47670 |
5-91-460 | Fuel system evaporative purge test procedure | 1/24/97 | 9/1/99, 64 FR 47670 |
* * * * * * *
Chapter 160—General Conformity Rules
* * * * * * *

[FR Doc. 03-4520 Filed 2-25-03; 8:45 am]

BILLING CODE 6560-50-P